DEPARTMENT OF COMMERCE

International Trade Administration

[A-427-801, A-428-801, A-475-801, A-588-804, A-559-801, A-412-801]

Antifriction Bearings and Parts Thereof from France, Germany, Italy, Japan, Singapore, and the United Kingdom: Preliminary Results Of Antidumping Duty Administrative Reviews, Partial Rescission Of Administrative Reviews, Notice Of Intent To Rescind Administrative Reviews, And Notice Of Intent To Revoke Order In Part

AGENCY: Import Administration, International Trade Administration, Department of Commerce.

ACTION: Notice of Preliminary Results of Antidumping Duty Administrative Reviews, Partial Rescission of Administrative Reviews, Notice of Intent to Rescind Administrative Reviews, and Notice of Intent to Revoke Order in Part.

SUMMARY: In response to requests from interested parties, the Department of Commerce is conducting administrative reviews of the antidumping duty orders on antifriction bearings (other than tapered roller bearings) and parts thereof from France, Germany, Italy, Japan, Singapore, and the United Kingdom. The merchandise covered by these orders are ball bearings and parts thereof (ball bearings) from France, Germany, Italy, Japan, Singapore, and the United Kingdom and spherical plain bearings and parts thereof from France. The reviews cover 173 manufacturers/exporters. The period of review is May 1, 2002, through April 30, 2003.

We have preliminarily determined that sales have been made below normal value by various companies subject to these reviews. If these preliminary results are adopted in our final results of administrative reviews, we will instruct U.S. Customs and Border Protection (CBP) to assess antidumping duties on all appropriate entries.

We invite interested parties to comment on these preliminary results. Parties who submit comments in these reviews are requested to submit with each argument (1) a statement of the issue and (2) a brief summary of the argument.

EFFECTIVE DATE: February 9, 2004.

FOR FURTHER INFORMATION CONTACT: The Department of Commerce (the Department) received numerous requests for reviews of companies under multiple orders. Please contact the appropriate analyst as outlined in the following chart at Import Administration, International Trade Administration, U.S. Department of Commerce, Washington, D.C. 20230; telephone: (202) 482-4733.

COMPANY | COUNTRY | ANALYST
Ace Bearing and Transmission Co. | France, Germany, Italy | Edythe Artman
Acorn Industrial Service Limited | France, Germany, Italy | Jeffrey Frank
Aeroengine Bearings | United Kingdom | Catherine Cartsos
Aktif Endustrie Malzemeleri | France, Germany, Italy | Lyn Johnson
Alphateam SPRL | France, Germany, Italy | Catherine Cartsos
Asahi Seiko | Japan | Jennifer Moats
Australian Bearing Pty Ltd. | France, Germany, Italy | Dmitry Vladimirov
Baltic Bearing Supply | France, Germany, Italy | Yang Jin Chun
Barden/FAG | United Kingdom | Jeffrey Frank
Bearing and Tool GmbH | France, Germany, Italy | Brian Ellman
Bearing Discount International GmbH | France, Germany, Italy | Fred Aziz
Bearing Dynamics | France, Germany, Italy | Janis Kalnins
Bearing Net | France, Germany, Italy | Susan Lehman
Bearing Sales Corporation | France, Germany, Italy | Jeffrey Frank
BTM Bearing Trade F.C. Miltner | France, Germany, Italy, United Kingdom | Hermes Pinilla
Budapesti Sved Casapagy Ltd. | France, Germany, Italy, United Kingdom | Tom Schauer
Cantoni and C.S.N.C. | France, Germany, Italy | Sochieta Moth
CCVI Bearing Company | France, Germany, Italy | Kristin Case
Comal SNC | France, Germany, Italy | Dmitry Vladimirov
DCD Corporation | France, Germany, Italy | Jennifer Moats
Delta Export GmbH | France, Germany, Italy, United Kingdom | Minoo Hatten
EuroLatin Ex. Services | France, Germany, Italy | Sochieta Moth
Ever-on Corporation (formerly Taisho Kiko Co. Ltd.) | France, Germany, Italy | Kristin Case
FAG | Germany, Italy | Dmitry Vladimirov
Fair Friend Ent. Co. Ltd. | France, Germany, Italy | Kristin Case
Friedrich Picard GmbH | France, Germany, Italy | Susan Lehman
Frohlich and Dorken GmbH | France, Germany, Italy | Jeffrey Frank
Godiva | Germany | Fred Aziz
Han Sol Tech Corp./Yoo Shin Co. | France, Germany, Italy | Janis Kalnins
Hayley Import/Export | France, Germany, Italy | Yang Jin Chun
Heinz Knust | France, Germany, Italy | Brian Ellman
Hergenhan GmbH | France, Germany, Italy | Catherine Cartsos
Hoens Industrieel BV | France, Germany, Italy | Dmitry Vladimirov
IBD Ltd. | France, Germany, Italy | Edythe Artman
IMA Corporation | Japan | Edythe Artman
INA | Germany | Susan Lehman
International Bearing Pte. Ltd. | France, Germany, Italy | Jennifer Moats
Interspecies Donath GmbH | France, Germany, Italy | Lyn Johnson
Italcuscinetti Group | France, Germany, Italy | Dunyako Ahmadu
Justy Corporation | France, Germany, Italy, Japan, United Kingdom | Dunyako Ahmadu
Kian Ho Bearings, Ltd. | France, Germany, Italy | Edythe Artman
KIS Antriebs Technik GmbH | France, Germany, Italy | Jennifer Moats
Koyo Seiko | Japan | Tom Schauer
KSM, Minamiguchi/Bearing MFG. Co. | France, Germany, Italy | Lyn Johnson
LTM Industrietechnik | France, Germany, Italy | Dmitry Vladimirov
M. Buchhalter Maschenmode/Hergenhan | France, Germany, Italy | Yang Jin Chun
Micaknowledge | France, Germany, Italy | Brian Ellman
Minetti SpA | France, Germany, Italy | Fred Aziz
Ming Hing Trading Company | France, Germany, Italy | Janis Kalnins
Motion Bearing Pte. Ltd. | France, Germany, Italy | Susan Lehman
Nachi-Fujikoshi | Japan | Minoo Hatten
Nankai Seiko | Japan | Catherine Cartsos
NPBS | Japan | Yang Jin Chun
NSK | Japan, United Kingdom | Dunyako Ahmadu
NTN | Japan | Hermes Pinilla
Osaka Pump Co. Ltd. | Japan | Edythe Artman
Paul Mueller | Germany | Dave Dirstine
Ringball Corporation | France, Germany, Italy, Japan | Dave Dirstine
Rodamietos Rovi | France, Germany, Italy | Jeffrey Frank
Roeirasa | France, Germany, Italy | Sochieta Moth
Rolling Bearing Co. Pty. Ltd. | France, Germany, Italy | Kristin Case
Rovi-Marcay | France, Germany, Italy | Tom Schauer
Rovi-Valencia | France, Germany, Italy | Minoo Hatten
Sapporo Precision Bearings, Inc. | Japan | Brian Ellman
SKF | France | Dunyako Ahmadu
SKF | Germany | Kristin Case
SKF | Italy | Sochieta Moth
SKF | United Kingdom | Kristin Case
SNR | France | Fred Aziz
Sprint Engineering | France, Germany, Italy | Sochieta Moth
Taisei Industries | Japan | Catherine Cartsos
Takeshita Seiko Co. Ltd. | Japan | Janis Kalnins
Taninaka Ltd. | France, Germany, Italy | Susan Lehman
TEC Engineering Co., Ltd. | Japan | Sochieta Moth
Timken | Germany | Kristin Case
Top G Trading Pte Ltd. | France, Germany, Italy | Brian Ellman
Weber Kugellager International | France, Germany, Italy | Fred Aziz
Withus Technology Corp. | France, Germany, Italy | Janis Kalnins
Wyko Export | France, Germany, Italy | Yang Jin Chun
Yoshida Shokai | Japan | Dmitry Vladimirov

SUPPLEMENTARY INFORMATION:

Background

On May 15, 1989, the Department published in the Federal Register (54 FR 20909) the antidumping duty orders on ball bearings from France, Germany, Italy, Japan, Singapore, and the United Kingdom and on spherical plain bearings and parts thereof from France. On July 1, 2003, in accordance with 19 CFR 351.213(b), we published a notice of initiation of administrative reviews of these orders (68 FR 39055). On July 29, 2003, we published a second notice of initiation of administrative reviews (68 FR 524) of companies that had been omitted inadvertently from the July 1, 2003, Federal Register notice.

After we initiated our reviews, we learned that the company Taisho Kiko had changed its name to Ever-On Corporation. Subsequently, even though we initiated a review of this firm as Taisho Kiko, for the remainder of this review, we will refer to this company as Ever-On Corporation. In addition, we initiated reviews of Kugellager Weber and Weber Kugellager. We learned after initiation that these two names were used for the same company (Letter from Weber Kugellager International to Secretary of Commerce, dated September 15, 2003, on file in room B-099 of the Commerce Department). As such, we will refer to this firm for the remainder of this review as Weber Kugellager. Similarly, we also initiated reviews of BTM and BTM Bearing Trade F.C. Miltner, but learned after initiation that these were variant names for the same firm.

Rescission of Reviews

Subsequent to the publication of our initiation notices, we received timely withdrawals of the requests we had received for reviews of Budapesti Sved Csapagy Ltd. (U.K.), Delta Export GmbH (U.K.), Godiva Bearing Ltd. (Germany), Justy Corp. (France, Germany, Italy, Japan, and U.K.), Nachi (Japan), NSK Bearings Europe (U.K.), Ringball Corporation (Japan), SNR Roulements (Japan), Taisei Industries, Ltd. (Japan), TEC Engineering (Japan), and Yoshida Shokai (Japan) with respect to ball bearings. Because there were no other requests for review for these companies and no interested party objected, we are rescinding the reviews with respect to these companies in accordance with 19 CFR 351.213(d). We also received timely withdrawals of the requests we had received for reviews of Budapesti Sved Csapagy Ltd (France, Germany, and Italy), Delta Export GmbH (France, Germany, and Italy), and Sapporo Precision Bearings, Inc. (Japan). Reviews for these three companies were also requested by other interested parties who did not withdraw their original requests. Consequently, we have continued our review of these companies.

On January 9, 2004, the petitioner withdrew its request for the review of ball bearings from Germany concerning INA-Schaeffler KG (INA). INA opposed the withdrawal, claiming that the Department should not honor the request for withdrawal for the following reasons: 1) the withdrawal is untimely; 2) INA has expended considerable time and effort already to prepare responses to the Department's original and supplemental questionnaires; 3) the Department has already expended considerable time and effort to analyze INA's responses; 4) because the Department already has INA's most current sales information, it is now able to calculate a more accurate dumping margin; 5) the decision to rescind the review may impede the Department's ability to gather information from involuntary respondents in the future; 6) circumstances surrounding INA's current review (for example, its affiliation with FAG) distinguish it from past cases where the Department has rescinded reviews for companies for which withdrawal requests were made past the 90-day deadline in the Department's regulations; 7) having already cooperated with the review thus far, INA has become an “interested party” to the review and thus has a vested interest in the continuance of the review.

Although we have accepted untimely withdrawals of requests for review elsewhere, the circumstances surrounding the review of INA are different from other situations. First, we have decided to collapse INA with another company under review, FAG, thereby treating the two requested firms as one entity. See the Collapsing Decision section of this notice for more details. We have not received a withdrawal of the request for review of FAG. Second, we had expended effort and resources in our analysis of INA prior to the untimely withdrawal such that we were quite advanced in the review. For these reasons, we have not rescinded the review of the order on ball bearings and parts thereof from Germany with respect to INA.

On January 29, 2004, we received a withdrawal of the request we had received for the review of the order on ball bearings and parts thereof from Japan from IMA Corporation. Even though this withdrawal came later than 90 days after the initiation of the instant review, we are rescinding the review for IMA because there were no other requests for review for this company and no other interested party objected.

Intent to Rescind Reviews

Although we initiated administrative reviews of the orders on ball bearings and parts thereof from France, Germany, and Italy that were exported by Comal SNC and Interspecies Donath GmbH, these firms were unlocatable and we were unable to conduct administrative reviews of them. In addition, we initiated reviews for BTM with respect to ball bearings from France, Germany, Italy, and the United Kingdom. Subsequent to the initiation of the reviews, BTM informed us that, although it is a reseller of subject bearings, all of its suppliers had knowledge at the time of sale that the merchandise was destined for the United States. If in fact the suppliers had knowledge that the sales they made to this trading company were destined for exportation to the United States, then the suppliers would be the proper parties to review because their sales would be the point in the sales chain at which merchandise “is first sold (or agreed to be sold) before the date of importation by the producer or exporter of the subject merchandise outside of the United States to an unaffiliated purchaser in the United States or to an unaffiliated purchaser for exportation to the United States...” pursuant to section 772(a) of the Tariff Act of 1930, as amended (the Act). Therefore, we intend to rescind the administrative reviews with respect BTM.

Scope of Reviews

The products covered by these reviews are antifriction bearings (other than tapered roller bearings) and parts thereof (AFBs) and constitute the following merchandise:

1. Ball Bearings and Parts Thereof: These products include all AFBs that employ balls as the rolling element. Imports of these products are classified under the following categories: antifriction balls, ball bearings with integral shafts, ball bearings (including radial ball bearings) and parts thereof, and housed or mounted ball bearing units and parts thereof.

Imports of these products are classified under the following Harmonized Tariff Schedules (HTSUS) subheadings: 3926.90.45, 4016.93.00, 4016.93.10, 4016.93.50, 6909.19.5010, 8431.20.00, 8431.39.0010, 8482.10.10, 8482.10.50, 8482.80.00, 8482.91.00, 8482.99.05, 8482.99.2580, 8482.99.35, 8482.99.6595, 8483.20.40, 8483.20.80, 8483.50.8040, 8483.50.90, 8483.90.20, 8483.90.30, 8483.90.70, 8708.50.50, 8708.60.50, 8708.60.80, 8708.70.6060, 8708.70.8050, 8708.93.30, 8708.93.5000, 8708.93.6000, 8708.93.75, 8708.99.06, 8708.99.31, 8708.99.4960, 8708.99.50, 8708.99.5800, 8708.99.8080, 8803.10.00, 8803.20.00, 8803.30.00, 8803.90.30, and 8803.90.90.

2. Spherical Plain Bearings, Mounted and Unmounted, and Parts Thereof: These products include all spherical plain bearings that employ a spherically-shaped sliding element and include spherical plain rod ends.

Imports of these products are classified under the following HTS subheadings: 3926.90.45, 4016.93.00, 4016.93.10, 4016.93.50, 6909.50.10, 8483.30.80, 8483.90.30, 8485.90.00, 8708.93.5000, 8708.99.50, 8803.10.00, 8803.20.00, 8803.30.00, 8803.90.30, and 8803.90.90.

Although the HTSUS item numbers above are provided for convenience and customs purposes, written descriptions of the scope of these proceedings remain dispositive.

The size or precision grade of a bearing does not influence whether the bearing is covered by one of the orders. These orders cover all the subject bearings and parts thereof (inner race, outer race, cage, rollers, balls, seals, shields, etc.) outlined above with certain limitations. With regard to finished parts, all such parts are included in the scope of the these orders. For unfinished parts, such parts are included if (1) they have been heat-treated, or (2) heat treatment is not required to be performed on the part. Thus, the only unfinished parts that are not coverd by these orders are those that will be subject to heat treatment after importation. The ultimate application of a bearing also does not influence whether the bearing is covered by the orders. Bearings designed for highly specialized applications are not excluded. Any of the subject bearings, regardless of whether they may ultimately be utilized in aircraft, automobiles, or other equipment, are within the scope of these orders.

For a listing of scope determinations which pertain to the orders, see the Scope Determination Memorandum (Scope Memorandum) from the Antifriction Bearings Team to Laurie Parkhill, dated April 1, 2002. The Scope Memorandum is on file in the Central Records Unit (CRU), Main Commerce Building, Room B-099, in the General Issues record (A-100-001) for the 02/03 reviews.

Verification

As provided in section 782(i) of the Act, we will verify information provided by certain respondents using standard verification procedures, including on-site inspection of the manufacturers' facilities, the examination of relevant sales and financial records, and the selection of original documentation containing relevant information. Our verification results will be outlined in the public versions of the verification reports, which will be placed on file in the CRU, Room B-099.

Use of Neutral Facts Available

Weber Kugellager responded in a timely manner to our requests for information but it did not provide U.S. and home-market sales databases that we could use to calculate dumping margins for the three country-specific reviews underway. Because we have not yet afforded Weber Kugellager the opportunity to correct the deficiencies in its responses for the preliminary results of these administrative reviews we have calculated a rate for Weber Kugellager based on neutral facts available. We calculated a margin for Weber Kugellager in each country-specific review by calculating a simple average margin using the non-de minimis and non-adverse facts-available rates we determined for the other respondents in each of the country-specific reviews for this period. We will issue a supplemental questionnaire to Weber Kugellager to allow it the opportunity to correct its responses. We will analyze the sufficiency of the response and issue the preliminary results of our analysis prior to the deadline for the case briefs in these reviews.

Use of Adverse Facts Available

In accordance with section 776(a) of the Act, we preliminarily determine that the use of facts available as the basis for the weighted-average dumping margin is appropriate for the following companies:

Ace Bearing and Tool (France, Germany, and Italy)

Aeroengine Bearings (United Kingdom)

Aktif Endustrie (France, Germany, and Italy)

Alphateam SPRL (France, Germany, and Italy)

Australian Bearing Pty Ltd. (France, Germany, and Italy)

Baltic Bearing Supply (France, Germany, and Italy)

Bearing Dynamics (France, Germany, and Italy)

Bearing Sales Corp. (France, Germany, and Italy)

Bearing and Tool GmbH (France, Germany, and Italy)

Budapesti Sved Csapagy Ltd. (France, Germany, and Italy)

Cantoni and C.S.N.C (France, Germany, and Italy)

CCVI Bearing Co. (France, Germany, and Italy)

DCD Corporation (France, Germany, and Italy)

Delta Export (France, Germany, and Italy)

EuroLatin Services (France, Germany, and Italy)

Fair Friend Ent. CO. Ltd. (France, Germany, and Italy)

Friedrich Picard GmbH (France, Germany, and Italy)

Frohlich and Dorken GmbH (France, Germany, and Italy)

Han Sol Technology Corporation (France, Germany, and Italy)

Hayley Import and Export (France, Germany, and Italy)

Heinz Knust (France, Germany, and Italy)

Hergenhan GmbH (France, Germany, and Italy)

Hoens Industrieel BV (France, Germany, and Italy)

IBD Ltd. (France, Germany, and Italy)

International Bearing Pte. Ltd. (France, Germany, and Italy)

Italcuscinetti Group (France, Germany, and Italy)

Kian Ho Bearings (France, Germany, and Italy)

KIS Antriebs Technik GmbH (France, Germany, and Italy)

KSM Minamiguchi/Bearing Manufacturing Co. (France, Germany, and Italy)

LTM Industrietechnik (France, Germany, and Italy)

M. Buchhalter Maschenmode/Hergenhan (France, Germany, and Italy)

Micaknowledge (France, Germany, and Italy)

Minetti SPA (France, Germany, and Italy)

Ming Hing Trading Co. (France, Germany, and Italy)

Motion Bearing Pte. Ltd. (France, Germany, and Italy)

Rodamietos Rovi (France, Germany, and Italy)

Roeirasa (France, Germany, and Italy)

Rovi-Marcay (France, Germany, and Italy)

Rovi-Valencia (France, Germany, and Italy)

Taninaka Ltd. (France, Germany, and Italy)

Top G Trading Company (France, Germany, and Italy)

Withus Technology Corporation (France, Germany, and Italy)

Wyko Export (France, Germany, and Italy)

These companies did not submit adequate responses to our antidumping duty questionnaire.¹ Consequently, we find that they have withheld “information that has been requested by the administering authority” under section 776(a)(1) of the Act. Further, Acorn Industrial Service filed two responses to section A of our questionnaire on August 15, 2003, and September 12, 2003, improperly. We rejected each response as being filed improperly in accordance with 19 CFR 351.303 and 304 and gave Acorn Industrial Service additional time to submit a response to our original questionnaire properly. Acorn did not submit any other information concerning bearings it exported to the United States from Germany. Therefore, having no information on the record, we find that this firm also did not provide “information that has been requested by the administering authority” under section 776(a)(1) of the Act.

¹ See memo from analyst to the file, “Administrative Review of the Antidumping Duty Order on Antifriction bearings and Parts Thereof from Germany - Responses to Questionnaire (December 11, 2003), Administrative Review of the Antidumping Duty Order on Antifriction Bearings and Parts Thereof from Italy - Responses to Questionnaire (December 11, 2003), and Administrative Review of the Antidumping Duty Order on Antifriction Bearings and Parts Thereof from France - Responses to Questionnaire (December 11, 2003).”

In accordance with section 776(b) of the Act, we are making an adverse inference in our application of the facts available. This is appropriate because the companies identified above have not provided appropriate responses to our requests for information and have not provided any acceptable rationale for their non-responses. Therefore, we find that they have not acted to the best of their ability in providing us with relevant information which is under their control. As adverse facts available for these firms, we have applied the highest rate which we have calculated for any company in any segment of the relevant proceeding on ball bearings from the countries for which these firms have been reviewed. We have selected these rates because they are sufficiently high as to reasonably assure that these firms do not obtain a more favorable result by failing to cooperate. Specifically, the rates are as follows: 66.42 percent for France, 70.41 percent for Germany, 68.29 percent for Italy, and 61.14 percent for the United Kingdom.

Section 776(c) of the Act provides that the Department shall, to the extent practicable, corroborate secondary information used for facts available by reviewing independent sources reasonably at its disposal. Information from a prior segment of the proceeding or from another company in the same proceeding constitutes secondary information. The Statement of Administrative Action accompanying the Uruguay Round Agreements Act, H.R. Doc. 103-316, at 870 (1994) (SAA), provides that the word “corroborate” means that the Department will satisfy itself that the secondary information to be used has probative value. As explained in Tapered Roller Bearings and Parts Thereof, Finished and Unfinished, from Japan, and Tapered Roller Bearings Four Inches or Less in Outside Diameter, and Components Thereof, from Japan: Preliminary Results of Antidumping Duty Administrative Reviews and Partial Termination of Administrative Reviews, 61 FR 57391, 57392 (November 6, 1996) (Tapered Roller Bearings and Parts Thereof from Japan), in order to corroborate secondary information, the Department will examine, to the extent practicable, the reliability and relevance of the information used. Unlike other types of information, however, such as input costs or selling expenses, there are no independent sources for calculated dumping margins. The only source for margins is administrative determinations. Thus, with respect to an administrative review, if the Department chooses as facts available a calculated dumping margin from a prior segment of the proceeding, it is not necessary to question the reliability of the margin for that time period.

With respect to the relevance aspect of corroboration, however, the Department will consider information reasonably at its disposal as to whether there are circumstances that would render a margin not relevant. Where circumstances indicate that the selected margin is not appropriate as adverse facts available, the Department will disregard the margin and determine an appropriate margin. See Fresh Cut Flowers from Mexico; Final Results of Antidumping Duty Administrative Review, 61 FR 6812, 6814 (February 22, 1996), where the Department disregarded the highest dumping margin as best information available because the margin was based on another company's uncharacteristic business expense resulting in an unusually high margin. Further, in accordance with F.LII De Cecco Di Filippo Fara S. Martino S.p.A. v. United States, 216 F.3d 1027 (Fed. Cir. June 16, 2000), we also examine whether information on the record would support the selected rates as reasonable facts available.

We find that the rates which we are using for these preliminary results have probative value. We compared the selected margins to margins calculated on individual sales of the merchandise in question made by the French, German, Italian, and U.K. companies covered by the instant review. We found a number of sales, made in the ordinary course of trade and in commercial quantities, with dumping margins near or exceeding the rates under consideration. The details of this analysis are contained in the memoranda from the case analysts to Laurie Parkhill.² This evidence supports an inference that the selected rates reflect the actual dumping margins for the firms in question.

² See The Use of Facts Available and Corroboration of Secondary Information for Italy (February 2, 2004), The Use of Facts Available and Corroboration of Secondary Information for France (February 2, 2004), The Use of Facts Available and Corroboration of Secondary Information for Germany (February 2, 2004), and The Use of Facts Available and Corroboration of Secondary Information for the United Kingdom (February 2, 2004) (collectively, Corroboration Memoranda).

These rates are the current cash-deposit rates for a number of firms (e.g., in the Germany proceeding, 70.41 percent is the current deposit rate for, among other firms, Timken (formerly Torrington Nadellager), NTN, Bearings Discount International GmbH, Motion Bearings, and Alphateam SPRL). Therefore, we find that these rates are relevant and have probative value.

Furthermore, there is no information on the record that demonstrates that the rates we have selected are inappropriate for use as the total adverse facts-available rates for the companies in question. Therefore, we consider the selected rates to have probative value with respect to the firms in question in these reviews and to reflect the appropriate adverse inferences.

Intent to Revoke

On May 30, 2003, Paul Mueller requested the revocation of the order covering ball bearings and parts thereof from Germany as it pertains to its sales.

Under section 751(d)(1) of the Act, the Department “may revoke, in whole or in part” an antidumping duty order upon completion of a review. Although Congress has not specified the procedures that the Department must follow in revoking an order, the Department has developed a procedure for revocation that is set forth under 19 CFR 351.222. Under subsection 351.222(b), the Department may revoke an antidumping duty order in part if it concludes that (i) an exporter or producer has sold the merchandise at not less than normal value for a period of at least three consecutive years, (ii) the exporter or producer has agreed in writing to its immediate reinstatement in the order if the Secretary concludes that the exporter or producer, subsequent to the revocation, sold the subject merchandise at less than normal value, and (iii) the continued application of the antidumping duty order is no longer necessary to offset dumping. Subsection 351.222(b)(3) states that, in the case of an exporter that is not the producer of subject merchandise, the Department normally will revoke an order in part under subsection 351.222(b)(2) only with respect to subject merchandise produced or supplied by those companies that supplied the exporter during the time period that formed the basis for revocation.

A request for revocation of an order in part must address three elements. The company requesting the revocation must do so in writing and submit the following statements with the request: (1) The company's certification that it sold the subject merchandise at not less than normal value during the current review period and that, in the future, it will not sell at less than normal value; (2) the company's certification that, during each of the consecutive years forming the basis of the request, it sold the subject merchandise to the United States in commercial quantities; (3) the agreement to reinstatement in the order if the Department concludes that the company, subsequent to revocation, has sold the subject merchandise at less than normal value. See 19 CFR 351.222(e)(1).

We preliminarily determine that the request from Paul Mueller meets all of the criteria under 19 CFR 351.222(e)(1). With regard to the criteria of subsection 351.222(b)(2), our preliminary margin calculations show that this firm sold ball bearings at not less than normal value during the current review period. See dumping margins below. In addition, it sold ball bearings at not less than normal value in the two previous administrative reviews in which it was involved. See Ball Bearings and Parts Thereof from France, et al; Final Results of Antidumping Duty Administrative Reviews and Revocation of Orders in Part, 67 FR 55780, 55781 (August 30, 2002), covering the period May 1, 2000, through April 30, 2001, and Ball Bearings and Parts Thereof From France, et al: Final Results of Antidumping Duty Administrative Reviews, Rescission of Administrative Review in Part, and Determination Not to Revoke Order in Part, 68 FR 35623, 35625 (June 16, 2003), covering the period May 1, 2001, through April 30, 2002.

Based on our examination of the sales data submitted by Paul Mueller, we preliminarily determine that Paul Mueller sold the subject merchandise in the United States in commercial quantities in each of the consecutive years cited by Paul Mueller to support its request for revocation. See preliminary results calculation memorandum for Paul Mueller, dated February 2, 2004, which is in the Department's CRU, Room B-099. Thus, we preliminarily find that Paul Mueller had zero or de minimis dumping margins for the last three consecutive administrative reviews and sold in commercial quantities in all three years. Also, we preliminarily determine that application of the antidumping order to Paul Mueller is no longer warranted for the following reasons: 1) the company had zero or de minimis margins for a period of at least three consecutive years; 2) the company has agreed to immediate reinstatement of the order if the Department finds that it has resumed making sales at less than fair value; 3) the continued application of the order is not otherwise necessary to offset dumping.

Therefore, we preliminarily determine that Paul Mueller qualifies for revocation of the order on ball bearings and parts thereof pursuant to 19 CFR 351.222(b)(2) and that the order with respect to merchandise produced and exported by Paul Mueller should be revoked.

If these preliminary findings are affirmed in our final results, we will revoke the order in part with respect to German ball bearings produced and exported by Paul Mueller and, in accordance with 19 CFR 351.222(f)(3), we will terminate the suspension of liquidation for ball bearings produced and exported by Paul Mueller that were entered, or withdrawn from warehouse, for consumption on or after May 1, 2003, and will instruct CBP to refund any cash deposits for such entries.

Export Price and Constructed Export Price

For the price to the United States, we used export price (EP) or constructed export price (CEP) as defined in sections 772(a) and (b) of the Act, as appropriate. Due to the extremely large volume of transactions that occurred during the period of review and the resulting administrative burden involved in calculating individual margins for all of these transactions, we sampled CEP sales in accordance with section 777A of the Act. When a firm made more than 10,000 CEP sales transactions to the United States of merchandise subject to a particular order, we reviewed CEP sales that occurred during sample weeks. We selected one week from each two-month period in the review period, for a total of six weeks, and analyzed each transaction made in those six weeks. The sample weeks are as follows: May 26 June 1, 2002; August 4 10, 2002; September 15 21, 2002; November 17 - 23, 2002; December 29, 2003 January 4, 2003; April 13 - 19, 2003. We reviewed all export-price sales transactions made during the period of review.

We calculated export price and CEP based on the packed F.O.B., C.I.F., or delivered price to unaffiliated purchasers in, or for exportation to, the United States. We made deductions, as appropriate, for discounts and rebates. We also made deductions for any movement expenses in accordance with section 772(c)(2)(A) of the Act.

In accordance with section 772(d)(1) of the Act and the SAA at 823-824, we calculated the CEP by deducting selling expenses associated with economic activities occurring in the United States, which includes commissions, direct selling expenses, indirect selling expenses, and U.S. repacking expenses. When appropriate, in accordance with section 772(d)(2) of the Act, we also deducted the cost of any further manufacture or assembly, except where we applied the special rule provided in section 772(e) of the Act. See below. Finally, we made an adjustment for profit allocated to these expenses in accordance with section 772(d)(3) of the Act.

With respect to subject merchandise to which value was added in the United States prior to sale to unaffiliated U.S. customers, e.g., parts of bearings that were imported by U.S. affiliates of foreign exporters and then further processed into other products which were then sold to unaffiliated parties, we determined that the special rule for merchandise with value added after importation under section 772(e) of the Act applied to all firms, except NPBS, that added value in the United States.

Section 772(e) of the Act provides that, when the subject merchandise is imported by an affiliated person and the value added in the United States by the affiliated person is likely to exceed substantially the value of the subject merchandise, we shall determine the CEP for such merchandise using the price of identical or other subject merchandise sold by the exporter or producer to an unaffiliated customer, if there is a sufficient quantity of sales to provide a reasonable basis for comparison and we determine that the use of such sales is appropriate. If there is not a sufficient quantity of such sales or if we determine that using the price of identical or other subject merchandise is not appropriate, we may use any other reasonable basis to determine the CEP.

To determine whether the value added is likely to exceed substantially the value of the subject merchandise, we estimated the value added based on the difference between the averages of the prices charged to the first unaffiliated purchaser for the merchandise as sold in the United States and the averages of the prices paid for the subject merchandise by the affiliated purchaser. Based on this analysis, we determined that the estimated value added in the United States by all firms accounted for at least 65 percent of the price charged to the first unaffiliated customer for the merchandise as sold in the United States. See 19 CFR 351.402(c) for an explanation of our practice on this issue. Therefore, we preliminarily determine that for all firms the value added is likely to exceed substantially the value of the subject merchandise. Also, for these firms, we determine that there was a sufficient quantity of sales remaining to provide a reasonable basis for comparison and that the use of these sales is appropriate. See analysis memoranda for Barden U.K., INA/FAG, Koyo Seiko Co. Ltd., NMB/Pelmec, NSK, NTN, Paul Mueller, SKF France, SKF Germany, and SKF Italy, dated February 2, 2004. Accordingly, for purposes of determining dumping margins for the sales subject to the special rule, we have used the weighted-average dumping margins calculated on sales of identical or other subject merchandise sold to unaffiliated persons.

For NPBS, we determined that the special rule did not apply because the value added in the United States did not exceed substantially the value of the subject merchandise. Consequently, NPBS submitted a complete response to our further-manufacturing questionnaire which included the costs of the further processing performed by its U.S. affiliate. Since the majority of NPBS's products sold in the United States were further processed, we analyzed all sales.

No other adjustments to export price or CEP were claimed or allowed.

Normal Value

Based on a comparison of the aggregate quantity of home-market and U.S. sales and absent any information that a particular market situation in the exporting country did not permit a proper comparison, we determined, with the exception of Takeshita Seiko Co., that the quantity of foreign like product sold by all respondents in the exporting country was sufficient to permit a proper comparison with the sales of the subject merchandise to the United States, pursuant to section 773(a) of the Act. Each company's quantity of sales in its home market was greater than five percent of its sales to the U.S. market. Therefore, in accordance with section 773(a)(1)(B)(i) of the Act, we based normal value on the prices at which the foreign like product was first sold for consumption in the exporting country in the usual commercial quantities and in the ordinary course of trade and, to the extent practicable, at the same level of trade as the EP or CEP sales.

With respect to Takeshita Seiko Co., we found that, because Takeshita sold only customized bearings, Takeshita's U.S. models of subject merchandise had no identical or similar match in the home market or in a third-country market. Therefore we used the constructed value of the U.S. model as the basis for the normal value.

Due to the extremely large number of transactions that occurred during the period of review and the resulting administrative burden involved in examining all of these transactions, we sampled sales to calculate normal value in accordance with section 777A of the Act. When a firm had more than 10,000 home-market sales transactions on a country-specific basis, we used sales in sample months that corresponded to the sample weeks that we selected for U.S. CEP sales, sales in a month prior to the period of review, and sales in the month following the period of review. The sample months were February, May, August, September, and November of 2002, and January, April, and May of 2003.

The Department may calculate normal value based on a sale to an affiliated party only if it is satisfied that the price to the affiliated party is comparable to the price at which sales are made to parties not affiliated with the exporter or producer, i.e., sales at arm's-length prices. See 19 CFR 351.403(c). We excluded sales to affiliated customers for consumption in the home market that we determined not to be at arm's-length prices from our analysis. To test whether these sales were made at arm's-length prices, the Department compared the prices of sales of comparable merchandise to affiliated and unaffiliated customers, net of all rebates, movement charges, direct selling expenses, and packing. Pursuant to 19 CFR 351.403(c) and in accordance with the Department's practice, when the prices charged to an affiliated party were, on average, between 98 and 102 percent of the prices charged to unaffiliated parties for merchandise comparable to that sold to the affiliated party, we determined that the sales to the affiliated party were at arm's-length prices. See Antidumping Proceedings: Affiliated Party Sales in the Ordinary Course of Trade, 67 FR 69186 (November 15, 2002). We included in our calculation of normal value those sales to affiliated parties that were made at arm's-length prices.

Because we disregarded below-cost sales in accordance with section 773(b) of the Act in the last completed review with respect to ball bearings sold by INA/FAG, FAG Italy, Koyo, NTN, NPBS, NSK, NMB/Pelmec, Paul Mueller, SNR, SKF France, SKF Italy, and SKF Germany (see Ball Bearings and Parts Thereof From France, et al; Final Results of Antidumping Duty Administrative Reviews, Rescission of Administrative Review in Part, and Determination Not to Revoke in Part, 68 FR 35623, 35624 (June 16, 2003)), and with respect to ball bearings sold by Asahi Seiko, Barden/FAG, and Nankai Seiko in their last completed reviews (see Ball Bearings and Parts Thereof from France, et al; Final Results of Antidumping Duty Administrative Reviews and Revocation of Orders in Part, 67 FR 55780, 55781 (August 30, 2002)), we had reasonable grounds to believe or suspect that sales of the foreign like product under consideration for the determination of normal value in these reviews may have been made at prices below the cost of production (COP) as provided by section 773(b)(2)(A)(ii) of the Act. Therefore, pursuant to section 773(b)(1) of the Act, we conducted COP investigations of sales by these firms in the home market.

In accordance with section 773(b)(3) of the Act, we calculated the COP based on the sum of the costs of materials and fabrication employed in producing the foreign like product, the selling, general, and administrative (SG&A) expenses, and all costs and expenses incidental to packing the merchandise. In our COP analysis, we used the home-market sales and COP information provided by each respondent in its questionnaire responses.

After calculating the COP, in accordance with section 773(b)(1) of the Act, we tested whether home-market sales of the foreign like product were made at prices below the COP within an extended period of time in substantial quantities and whether such prices permitted the recovery of all costs within a reasonable period of time. We compared model-specific COPs to the reported home-market prices less any applicable movement charges, discounts, and rebates.

Pursuant to section 773(b)(2)(C) of the Act, when less than 20 percent of a respondent's sales of a given product were at prices less than the COP, we did not disregard any below-cost sales of that product because the below-cost sales were not made in substantial quantities within an extended period of time. When 20 percent or more of a respondent's sales of a given product during the period of review were at prices less than the COP, we disregarded the below-cost sales because they were made in substantial quantities within an extended period of time pursuant to sections 773(b)(2)(B) and (C) of the Act and because, based on comparisons of prices to weighted-average COPs for the period of review, we determined that these sales were at prices which would not permit recovery of all costs within a reasonable period of time in accordance with section 773(b)(2)(D) of the Act. See analysis memoranda for Asahi Seiko, Barden/FAG, FAG Italy, INA/FAG, Koyo, Nankai Seiko, NMB/Pelmec, NTN, NPBS, NSK, Paul Mueller, SNR, SKF France, SKF Italy, and SKF Germany, dated February 2, 2004. Based on this test, we disregarded below-cost sales with respect to all of the above-mentioned companies.

We compared U.S. sales with sales of the foreign like product in the home market. We considered all non-identical products within a bearing family to be equally similar. As defined in the questionnaire, a bearing family consists of all bearings which are the foreign like product that are the same in the following physical characteristics: load direction, bearing design, number of rows of rolling elements, precision rating, dynamic load rating, outer diameter, inner diameter, and width.

We received a suggestion from the petitioner to alter our model-match methodology. The petitioner suggested that, instead of averaging the sales of all the models within a family, it would be more accurate to compare sales of the single most similar model in those cases where an identical match cannot be found in the home and U.S. market. Because it is not possible for us to make such a substantial change to our model-match methodology within the statutorily mandated deadlines, we have decided to continue to use the same methodology from past reviews for this period of review. See Memorandum to James J. Jochum from Jeffrey A. May, Ball Bearings (and Parts Thereof) From France, Germany, Italy, Japan, Singapore, and the United Kingdom - Model-Match Methodology (December 3, 2003). We have solicited comments and invited rebuttal comments from all interested parties on the proposed change to our model-match methodology (see letters to interested parties dated December 4, 2003, and January 9, 2004, on file in the CRU). We will then use these comments to identify the physical characteristics that we will require respondents to report in future reviews and develop a new model-match methodology for use in the 2003-2004 reviews.

Home-market prices were based on the packed, ex-factory, or delivered prices to affiliated or unaffiliated purchasers. When applicable, we made adjustments for differences in packing and for movement expenses in accordance with sections 773(a)(6)(A) and (B) of the Act. We also made adjustments for differences in cost attributable to differences in physical characteristics of the merchandise pursuant to section 773(a)(6)(C)(ii) of the Act and 19 CFR 351.411 and for differences in circumstances of sale in accordance with section 773(a)(6)(C)(iii) of the Act and 19 CFR 351.410. For comparisons to export price, we made circumstances-of-sale adjustments by deducting home-market direct selling expenses from and adding U.S. direct selling expenses to normal value. For comparisons to CEP, we made circumstances-of-sale adjustments by deducting home-market direct selling expenses from normal value. We also made adjustments, when applicable, for home-market indirect selling expenses to offset U.S. commissions in export-price and CEP calculations.

In accordance with section 773(a)(1)(B)(i) of the Act, we based normal value, to the extent practicable, on sales at the same level of trade as the export price or CEP. If normal value was calculated at a different level of trade, we made an adjustment, if appropriate and if possible, in accordance with section 773(a)(7)(A) of the Act. See Level of Trade section below.

In accordance with section 773(a)(4) of the Act, we used constructed value as the basis for normal value when there were no usable sales of the foreign like product in the comparison market. We calculated constructed value in accordance with section 773(e) of the Act. We included the cost of materials and fabrication, SG&A expenses, and profit in the calculation of constructed value. In accordance with section 773(e)(2)(A) of the Act, we based SG&A expenses and profit on the amounts incurred and realized by each respondent in connection with the production and sale of the foreign like product in the ordinary course of trade for consumption in the home market.

When appropriate, we made adjustments to constructed value in accordance with section 773(a)(8) of the Act, 19 CFR 351.410, and 19 CFR 351.412 for circumstance-of-sale differences and level-of-trade differences. For comparisons to export price, we made circumstance-of-sale adjustments by deducting home-market direct selling expenses from and adding U.S. direct selling expenses to constructed value. For comparisons to CEP, we made circumstance-of-sale adjustments by deducting home-market direct selling expenses from constructed value. We also made adjustments, when applicable, for home-market indirect selling expenses to offset U.S. commissions in export-price and CEP comparisons.

When possible, we calculated constructed value at the same level of trade as the export price or CEP. If constructed value was calculated at a different level of trade, we made an adjustment, if appropriate and if possible, in accordance with sections 773(a)(7) and (8) of the Act. See Level of Trade section below.

Level of Trade

To the extent practicable, we determined normal value for sales at the same level of trade as the U.S. sales (either export price or CEP). When there were no sales at the same level of trade, we compared U.S. sales to home-market sales at a different level of trade. The normal-value level of trade is that of the starting-price sales in the home market. When normal value is based on constructed value, the level of trade is that of the sales from which we derived SG&A and profit.

To determine whether home-market sales are at a different level of trade than U.S. sales, we examined stages in the marketing process and selling functions along the chain of distribution between the producer and the unaffiliated customer. If the comparison-market sales were at a different level of trade from that of a U.S. sale and the difference affected price comparability, as manifested in a pattern of consistent price differences between the sales on which normal value is based and comparison-market sales at the level of trade of the export transaction, we made a level-of-trade adjustment under section 773(a)(7)(A) of the Act. See, e.g., Notice of Final Determination of Sales at Less Than Fair Value: Certain Cut-to-Length Carbon Steel Plate from South Africa, 62 FR 61731, 61732 (November 19, 1997).

For a company-specific description of our level-of-trade analysis for these preliminary results, see Memorandum to Laurie Parkhill from Antifriction Bearings Team Regarding Level of Trade, dated February 2, 2004, on file in the CRU, Room B-099.

Collapsing Decision

As a result of our analysis of INA and FAG's responses to our supplemental questionnaires, we have found that the totality of factual information suggests that it is appropriate to collapse FAG and INA as affiliated producers for the purpose of calculating an antidumping duty margin. See Memorandum to Laurie Parkhill, Ball Bearings (and Parts Thereof) From Germany-Collapsing Affiliated Producers, FAG Kugelfischer Georg Schafer AG and INA-Schaeffler KG, for Purposes of Calculating a Dumping Margin, January 29, 2004 (Collapsing Memo).

As we have found before, “[i]t is the Department's long-standing practice to calculate a separate dumping margin for each manufacturer or exporter investigated.” Final Determinations of Sales at Less than Fair Value; Certain Hot-Rolled Carbon Steel Flat Products, Certain Cold-Rolled Carbon Steel Flat Products, and Certain Corrosion-Resistant Carbon Steel Flat Products from Japan, 58 FR 37154, 37159 (July 9, 1993). Because we calculate margins on a company-specific basis, we must ensure that we review the entire producer or reseller, not merely a part of it. We review the entire entity due to our concerns regarding price and cost manipulation. Because of this concern, we examine the question of whether companies “constitute separate manufacturers or exporters for purposes of the dumping law.” Final Determination of Sales at Less Than Fair Value; Certain Granite Products from Spain, 53 FR 24335, 24337 (June 28, 1988). When affiliated producers have production facilities for similar or identical products that would not require substantial retooling of either facility in order to restructure manufacturing priorities and there is evidence indicating a significant potential for the manipulation of price and production, we “collapse” related companies; that is, we treat the companies as one entity for purposes of calculating the dumping margin. See 19 CFR 351.401(f). See also Nihon Cement Co., Ltd. v. United States, Slip Op. 93-80 (CIT May 25, 1993). As detailed in our Collapsing Memo, we find that such a potential for the manipulation of price and production exists with respect to INA and FAG. Therefore, we have calculated a single margin for this entity.

Preliminary Results of Reviews

As a result of our reviews, we preliminarily determine the following percentage weighted-average dumping margins on antifriction bearings and parts thereof for the period May 1, 2002, through April 30, 2003:

FRANCE - Ball Bearings
Company | Margin
Ace Bearing and Transmission Service | 66.42
Acorn Industrial Service Limited | (1)
Aktif Endustrie Malzemeleri | 66.42
Alphateam SPRL | 66.42
Australian Bearing Pty Ltd. | 66.42
Baltic Bearing Supply | 66.42
Bearing and Tool GmbH | 66.42
Bearing Discount International GmbH | (1)
Bearing Dynamics | 66.42
Bearing Net | (1)
Bearing Sales Corp. | 66.42
Budapesti Sved Csapagy Ltd. | 66.42
Cantoni and C.S.N.C. | 66.42
CCVI Bearing Co. | 66.42
DCD Corp. | 66.42
Delta Export GmbH | 66.42
EuroLatin Ex. Services | 66.42
Ever-On Corporation (formerly Taisho Kiko Co.) | (1)
Fair Friend Ent. Co. Ltd. | 66.42
Friedrich Picard GmbH | 66.42
Frohlich and Dorken GmbH | 66.42
Han Sol Tech. Corp/Yoo Shin Co. | 66.42
Hayley Import/Export | 66.42
Heinz Knust | 66.42
Hergenhan GmbH | 66.42
Hoens Industrieel BV | 66.42
IBD Ltd. | 66.42
International Bearing Pte.Ltd. | 66.42
Italcuscinetti Group | 66.42
Kian Ho Bearings, Ltd. | 66.42
KIS Antriebs Technik GmbH | 66.42
KSM, Minamiguchi/Bearing Manufacturing Co. | 66.42
LTM Industrietechnik | 66.42
M. Buchhalter Maschenmode/Hergenhan | 66.42
Micaknowledge | 66.42
Minetti SpA | 66.42
Ming Hing Trading Co. | 66.42
Motion Bearing Ptre. Ltd. | 66.42
Ringball Corporation | 2.94
Rodamietos Rovi | 66.42
Roeirasa | 66.42
Rolling Bearing Co. Pty Ltd. | (1)
Rovi-Marcay | 66.42
Rovi-Valencia | 66.42
SKF | 5.25
SNR | 6.40
Sprint Engineering | (1)
Taninaka Ltd. | 66.42
Top G Trading Pte Ltd. | 66.42
Weber Kugellager Int. | 4.86
Withus Technology Corporation | 66.42
Wyko Export | 66.42
FRANCE - Spherical Bearings
Ringball | (1)
SKF | 22.72

GERMANY
Company | Margin
Ace Bearing and Transmission Service | 70.41
Acorn Industrial Service Limited | 70.41
Aktif Endustrie Malzemeleri | 70.41
Alphateam SPRL | 70.41
Australian Bearing Pty Ltd. | 70.41
Baltic Bearing Supply | 70.41
Bearing and Tool GmbH | 70.41
Bearing Discount International GmbH | (1)
Bearing Dynamics | 70.41
Bearing Net | (1)
Bearing Sales Corp. | 70.41
Budapesti Sved Csapagy Ltd. | 70.41
Cantoni and C.S.N.C. | 70.41
CCVI Bearing Co. | 70.41
DCD Corp. | 70.41
Delta Export GmbH | 70.41
EuroLatin Ex. Services | 70.41
Ever-On Corporation (formerly Taisho Kiko Co.) | (1)
Fair Friend Ent. Co. Ltd. | 70.41
Friedrich Picard GmbH | 70.41
Frohlich and Dorken GmbH | 70.41
Han Sol Tech. Corp/Yoo Shin Co. | 70.41
Hayley Import/Export | 70.41
Heinz Knust | 70.41
Hergenhan GmbH | 70.41
Hoens Industrieel BV | 70.41
IBD Ltd. | 70.41
INA/FAG | 3.00
International Bearing Pte.Ltd. | 70.41
Italcuscinetti Group | 70.41
Kian Ho Bearings, Ltd. | 70.41
KIS Antriebs Technik GmbH | 70.41
KSM, Minamiguchi/Bearing Manufacturing Co. | 70.41
LTM Industrietechnik | 70.41
M. Buchhalter Maschenmode/Hergenhan | 70.41
Micaknowledge | 70.41
Minetti SpA | 70.41
Ming Hing Trading Co. | 70.41
Motion Bearing Pte. Ltd. | 70.41
Paul Mueller | 0.35
Ringball | 6.54
Rodamietos Rovi | 70.41
Roeirasa | 70.41
Rolling Bearing Co. Pty Ltd. | (1)
Rovi-Marcay | 70.41
Rovi-Valencia | 70.41
SKF | 2.49
Sprint Engineering | (1)
Taninaka Ltd. | 70.41
Timken | (1)
Top G Trading Pte Ltd.70.41
Weber Kugellager Int. | 4.01
Withus Technology Corporation | 70.41
Wyko Export | 70.41

ITALY
Company | Margin
Ace Bearing and Transmission Service | 68.29
Acorn Industrial Service Limited | (1)
Aktif Endustrie Malzemeleri | 68.29
Alphateam SPRL | 68.29
Australian Bearing Pty Ltd. | 68.29
Baltic Bearing Supply | 68.29
Bearing and Tool GmbH | 68.29
Bearing Discount International GmbH | (1)
Bearing Dynamics | 68.29
Bearing Net | (1)
Bearing Sales Corp. | 68.29
Budapesti Sved Csapagy Ltd. | 68.29
Cantoni and C.S.N.C. | 68.29
CCVI Bearing Co. | 68.29
DCD Corp. | 68.29
Delta Export GmbH | 68.29
EuroLatin Ex. Services | 68.29
Ever-On Corporation (formerly Taisho Kiko Co.) | (1)
FAG | 3.50
Fair Friend Ent. Co. Ltd. | 68.29
Friedrich Picard GmbH | 68.29
Frohlich and Dorken GmbH | 68.29
Han Sol Tech. Corp/Yoo Shin Co. | 68.29
Hayley Import/Export | 68.29
Heinz Knust | 68.29
Hergenhan GmbH | 68.29
Hoens Industrieel BV | 68.29
IBD Ltd. | 68.29
International Bearing Pte.Ltd. | 68.29
Italcuscinetti Group | 68.29
Kian Ho Bearings, Ltd. | 68.29
KIS Antriebs Technik GmbH | 68.29
KSM, Minamiguchi/Bearing Manufacturing Co. | 68.29
LTM Industrietechnik | 68.29
M. Buchhalter Maschenmode/Hergenhan | 68.29
Micaknowledge | 68.29
Minetti SpA | 68.29
Ming Hing Trading Co. | 68.29
Motion Bearing Ptre. Ltd. | 68.29
Ringball | 3.45
Rodamietos Rovi | 68.29
Roeirasa | 68.29
Rolling Bearing Co. Pty Ltd. | (1)
Rovi-Marcay | 68.29
Rovi-Valencia | 68.29
SKF | 1.40
Sprint Engineering | (1)
Taninaka Ltd. | 68.29
Top G Trading Pte Ltd. | 68.29
Weber Kugellager Int. | 2.78
Withus Technology Corporation | 68.29
Wyko Export | 68.29

JAPAN
Company | Margin
Asahi Seiko Co. Ltd. | 0.23
Koyo Seiko Co., Ltd. | 5.49
Nankai Seiko | 0.46
NPBS | 10.32
NSK | 2.46
NTN | 2.74
Osaka Pump | 1.78
Sapporo | 9.05
Takeshita Seiko | 2.90

SINGAPORE
Company | Margin
NMB/Pelmec | 1.44

UNITED KINGDOM
Company | Margin
Aeroengine Bearings | 61.14
Barden/FAG | 6.06
SKF | (1)
¹ No shipments or sales subject to this review. Pursuant to 19 CFR 351.213(d)(2), we intend to rescind these reviews at the time of our final results if we continue to find no evidence of sales during the period of review.

Comments

Any interested party may request a hearing within 30 days of the date of publication of this notice. A general-issues hearing, if requested, and any hearings regarding issues related solely to specific countries, if requested, will be held at the main Commerce Department building at a time and location to be determined.

Issues raised in hearings will be limited to those raised in the respective case and rebuttal briefs. Parties who submit case or rebuttal briefs in these proceedings are requested to submit with each argument (1) a statement of the issue, and (2) a brief summary of the argument with an electronic version included. The Department will notify all parties in each country-specific review as to the applicable briefing schedule.

The Department will publish the final results of these administrative reviews, including the results of its analysis of issues raised in any such written briefs. The Department will issue final results of these reviews within 120 days of publication of these preliminary results.

Assessment Rates

The Department shall determine, and CBP shall assess, antidumping duties on all appropriate entries. In accordance with 19 CFR 351.212(b)(1), we have calculated, whenever possible, an exporter/importer (or customer)-specific assessment rate or value for merchandise subject to these reviews.

The Department clarified its “automatic assessment” regulation on May 6, 2003 (68 FR 23954). This clarification will apply to entries of subject merchandise during the period of review produced by companies included in these preliminary results of reviews for which the reviewed companies did not know their merchandise was destined for the United States. In such instances, we will instruct CBP to liquidate unreviewed entries at the all-others rate if there is no rate for the intermediate company(ies) involved in the transaction. For a full discussion of this clarification, see Notice of Policy Concerning Assessment of Antidumping Duties, 68 FR 23954 (May 6, 2003).

Export-Price Sales

With respect to export-price sales, for these preliminary results we divided the total dumping margins (calculated as the difference between normal value and export price) for each exporter's importer/customer by the total number of units the exporter sold to that importer/customer. We will direct CBP to assess the resulting per-unit dollar amount against each unit of merchandise in each of that importer's/customer's entries under the relevant order during the review period.

Constructed Export Price Sales

For CEP sales (sampled and non-sampled), we divided the total dumping margins for the reviewed sales by the total entered value of those reviewed sales for each importer. We will direct the CBP to assess the resulting percentage margin against the entered customs values for the subject merchandise on each of that importer's entries under the relevant order during the review period. See 19 CFR 351.212(b).

Cash-Deposit Requirements

To calculate the cash-deposit rate for each respondent (i.e., each exporter and/or manufacturer included in these reviews), we divided the total dumping margins for each company by the total net value for that company's sales of merchandise during the review period. In order to derive a single weighted-average margin for each respondent, we weight-averaged the export-price and CEP deposit rates (using the export price and CEP, respectively, as the weighting factors). To accomplish this when we sampled CEP sales, we first calculated the total dumping margins for all CEP sales during the review period by multiplying the sample CEP margins by the ratio of total days in the review period to days in the sample weeks. We then calculated a total net value for all CEP sales during the review period by multiplying the sample CEP total net value by the same ratio. Finally, we divided the combined total dumping margins for both export-price and CEP sales by the combined total value for both export-price and CEP sales to obtain the deposit rate.

Entries of parts incorporated into finished bearings before sales to an unaffiliated customer in the United States will receive the respondent's deposit rate applicable to the order.

Furthermore, the following deposit requirements will be effective upon publication of the notice of final results of administrative reviews for all shipments of antifriction bearings and parts thereof entered, or withdrawn from warehouse, for consumption on or after the date of publication, as provided by section 751(a)(1) of the Act: (1) the cash-deposit rates for the reviewed companies will be the rates established in the final results of reviews; (2) for previously reviewed or investigated companies not listed above, the cash-deposit rate will continue to be the company-specific rate published for the most recent period; (3) if the exporter is not a firm covered in this review, a prior review, or the less-than-fair-value investigation, but the manufacturer is, the cash-deposit rate will be the rate established for the most recent period for the manufacturer of the merchandise; and (4) the cash-deposit rate for all other manufacturers or exporters will continue to be the “All Others” rate for the relevant order made effective by the final results of review published on July 26, 1993. See Antifriction Bearings (Other Than Tapered Roller Bearings) and Parts Thereof From France, et al; Final Results of Antidumping Duty Administrative Reviews and Revocation in Part of an Antidumping Duty Order, 58 FR 39729, 39730 (July 26, 1993). For ball bearings from Italy, see Antifriction Bearings (Other Than Tapered Roller Bearings) and Parts Thereof From France, et al; Final Results of Antidumping Duty Administrative Reviews, Partial Termination of Administrative Reviews, and Revocation in Part of Antidumping Duty Orders, 61 FR 66472, 66521 (December 17, 1996). These rates are the “All Others” rates from the relevant less-than-fair-value investigations.

These deposit requirements, when imposed, shall remain in effect until publication of the final results of the next administrative reviews.

This notice also serves as a preliminary reminder to importers of their responsibility under 19 CFR 351.402(f) to file a certificate regarding the reimbursement of antidumping duties prior to liquidation of the relevant entries during this review period. Failure to comply with this requirement could result in the Department's presumption that reimbursement of antidumping duties occurred and the subsequent assessment of doubled antidumping duties.

We are issuing and publishing these determinations in accordance with sections 751(a)(1) and 777(i)(1) of the Act.

Dated: February 2, 2004.
James J. Jochum,
Assistant Secretary for Import Administration.

[FR Doc. 04-2722 Filed 2-6-04; 8:45 am]

BILLING CODE 3510-DS-S